DEPARTMENT OF HOMELAND SECURITY

Coast Guard

33 CFR Part 165

[Docket No. USCG-2020-0300]

Safety Zones; Recurring Safety Zone in Captain of the Port Sault Sainte Marie Zone for Events in July

AGENCY: Coast Guard, DHS.

ACTION: Notice of enforcement of regulation.

SUMMARY: The Coast Guard will establish a safety zone for the Alpena 4th of July fireworks. Our regulation for safety zones within the Captain of the Port Sault Sainte Marie Zone identifies the regulated area for this safety zone. This action is necessary and intended to protect the safety of life and property on navigable waters prior to, during, and immediately after firework displays. During the enforcement periods listed below, entry into, transiting, or anchoring within the safety zone is prohibited unless authorized by the Captain of the Port Sault Sainte Marie or a designated representative.

DATES: The regulations in 33 CFR 165.918 will be enforced on or around July 4, 2020, from thirty minutes before sunset to thirty minutes after the end of the fireworks display.

FOR FURTHER INFORMATION CONTACT: If you have questions about this notice of enforcement, call or email BOSN4 Robert Gruschow, Waterways Management, U.S. Coast Guard Sector Sault Sainte Marie; telephone (906)-253-2462, email Robert.A.Gruschow@uscg.mil.

SUPPLEMENTARY INFORMATION: The Coast Guard will enforce the safety zones in 33 CFR 165.918 as per the time, dates, and locations in Table 1 below.

Table 1
Event | Location | Event date
(16) Alpena Fourth of July Celebration Fireworks; Alpena, MI. | All U.S. navigable waters of Lake Huron within an approximate 1000-foot radius of the fireworks launch site located near the end of Mason Street, South of State Avenue, at position 45°02′42″ N, 083°26′48″ W. | Beginning on or around July 4th; 30 minutes before sunset and 30 minutes after the end of the fireworks display.

This action is being taken to protect the safety of life and property on navigable waters prior to, during, and immediately after firework displays. During the enforcement period, no vessel may transit this regulated area without approval from the Captain of the Port Sault Sainte Marie or a designated representative. Vessels and persons granted permission to enter the safety zone shall obey all lawful orders or directions of the Captain of the Port Sault Sainte Marie, or an on-scene representative.

This notice of enforcement is issued under authority of 33 CFR 165.930 and 5 U.S.C. 552 (a). In addition to this notice in the Federal Register, the Coast Guard will also provide notice through other means, which will include Broadcast Notice to Mariners, Local Notice to Mariners, distribution in leaflet form, and on-scene oral notice. The Captain of the Port Sault Sainte Marie or a designated on-scene representative may be contacted via Channel 16, VHF-FM or at (906) 635-3319.

Dated: June 25, 2020.
P.S. Nelson,
Captain, U.S. Coast Guard, Captain of the Port Sault Sainte Marie.

[FR Doc. 2020-14140 Filed 6-29-20; 8:45 am]

BILLING CODE 9110-04-P